DEPARTMENT OF ENERGY

Federal Energy Regulatory Commission

Combined Notice of Filings #1

Take notice that the Commission received the following exempt wholesale generator filings:

Docket Numbers: EG15-112-000.

Applicants: Silver State Solar Power South, LLC.

Description: Notice of Self-certification of Exempt Wholesale Generator Status of Silver State Solar Power South, LLC.

Filed Date: 8/11/15.

Accession Number: 20150811-5097.

Comments Due: 5 p.m. ET 9/1/15.

Docket Numbers: EG15-113-000.

Applicants: Recurrent Energy, LLC.

Description: Notice of Self-Certification of EG of RE Garland, LLC.

Filed Date: 8/11/15.

Accession Number: 20150811-5121.

Comments Due: 5 p.m. ET 9/1/15.

Docket Numbers: EG15-114-000.

Applicants: Recurrent Energy, LLC.

Description: Self-Certification of EG of RE Garland A, LLC.

Filed Date: 8/11/15.

Accession Number: 20150811-5126.

Comments Due: 5 p.m. ET 9/1/15.

Take notice that the Commission received the following electric rate filings:

Docket Numbers: ER10-2964-008.

Applicants: Selkirk Cogen Partners, L.P.

Description: Supplement to July 1, 2015 Notice of Non-Material Change in Status of Selkirk Cogen Partners, L.P.

Filed Date: 8/11/15.

Accession Number: 20150811-5077.

Comments Due: 5 p.m. ET 9/1/15.

Docket Numbers: ER15-2135-000.

Applicants: Alexander Wind Farm, LLC.

Description: Supplement to July 9, 2015 Alexander Wind Farm, LLC tariff filing.

Filed Date: 8/6/15.

Accession Number: 20150806-5086.

Comments Due: 5 p.m. ET 8/27/15.

Docket Numbers: ER15-2348-000.

Applicants: Tucson Electric Power Company.

Description: Report Filing: Supplement to Filing of Amendments to Rate Schedule No. 102 to be effective N/A.

Filed Date: 8/7/15.

Accession Number: 20150807-5125.

Comments Due: 5 p.m. ET 8/28/15.

Docket Numbers: ER15-2409-000.

Applicants: Midcontinent Independent System Operator, Inc.

Description: § 205(d) Rate Filing: 2015-08-11_SA 2825 MidAmerican Energy-Highland Wind Energy II GIA (J285) to be effective 8/4/2015.

Filed Date: 8/11/15.

Accession Number: 20150811-5037.

Comments Due: 5 p.m. ET 9/1/15.

Docket Numbers: ER15-2410-000.

Applicants: Public Service Company of New Mexico.

Description: Initial rate filing: Executed Expedited Service Agreement between PNM and Arabella Wind, LLC to be effective 7/16/2015.

Filed Date: 8/11/15.

Accession Number: 20150811-5100.

Comments Due: 5 p.m. ET 9/1/15.

Docket Numbers: ER15-2411-000.

Applicants: PacifiCorp.

Description: Tariff Cancellation: Termination of NW Energy AMPS 230 kV Line 46 MW Construct Agmt to be effective 10/29/2015.

Filed Date: 8/11/15.

Accession Number: 20150811-5124.

Comments Due: 5 p.m. ET 9/1/15.

Docket Numbers: ER15-2412-000.

Applicants: Southwest Power Pool, Inc.

Description: § 205(d) Rate Filing: 1884R4 Westar Energy, Inc. NITSA and NOA to be effective 8/1/2015.

Filed Date: 8/11/15.

Accession Number: 20150811-5135.

Comments Due: 5 p.m. ET 9/1/15.

Docket Numbers: ER15-2413-000.

Applicants: ITC Midwest LLC.

Description: § 205(d) Rate Filing: Filing of CIAC Agreement with Clarke Electric to be effective 10/12/2015.

Filed Date: 8/11/15.

Accession Number: 20150811-5142.

Comments Due: 5 p.m. ET 9/1/15.

Docket Numbers: ER15-2414-000.

Applicants: Southwest Power Pool, Inc.

Description: § 205(d) Rate Filing: 1885R4 Westar Energy, Inc. (Bronson) NITSA and NOA to be effective 8/1/2015.

Filed Date: 8/11/15.

Accession Number: 20150811-5143.

Comments Due: 5 p.m. ET 9/1/15.

Docket Numbers: ER15-2415-000.

Applicants: ISO New England Inc.

Description: Compliance filing: Errata to Revision Related to Order No. 676-H to be effective 5/15/2015.

Filed Date: 8/11/15.

Accession Number: 20150811-5144.

Comments Due: 5 p.m. ET 9/1/15.

Docket Numbers: ER15-2416-000.

Applicants: Southwest Power Pool, Inc.

Description: § 205(d) Rate Filing: 1887R4 Westar Energy, Inc. (Elsmore) NITSA and NOA to be effective 8/1/2015.

Filed Date: 8/11/15.

Accession Number: 20150811-5172.

Comments Due: 5 p.m. ET 9/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2015.
Kimberly D. Bose,
Secretary.

[FR Doc. 2015-20195 Filed 8-14-15; 8:45 am]

BILLING CODE 6717-01-P